DEPARTMENT OF JUSTICE

Antitrust Division

Notice Pursuant to the National Cooperative Research and Production Act of 1993—Industrial Macromolecular Crystallography Association

Notice is hereby given that, on August 21, 2007, pursuant to Section 6(a) of the National Cooperative Research and Production Act of 1993, 15 U.S.C. 4301, et seq. (“the Act”), Industrial Macromolecular Crystallography Association (“IMCA”) has filed written notifications simultaneously with the Attorney General and the Federal Trade Commission disclosing changes in its membership. The notifications were filed for the purpose of extending the Act's provisions limiting the recovery of antitrust plaintiffs to actual damages under specified circumstances. Specifically, Johnson & Johnson Pharmaceutical Research & Development, LLC, Raritan, NJ has been added as a party to this venture; 3-Dimensional Pharmaceuticals, Inc., Exton, PA has withdrawn as a party to this venture; and Pfizer Global Research and Development has changed its principal place of business to Groton, CT.

No other changes have been made in either the membership or planned activity of the group research project. Membership in this group research project remains open, and IMCA intends to file additional written notifications disclosing all changes in membership.

On October 23, 1990, IMCA filed its original notification pursuant to Section 6(a) of the Act. The Department of Justice published a notice in the Federal Register pursuant to Section 6(b) of the Act on December 3, 1990 (55 FR 49952).

The last notification was filed with the Department on November 17, 2003. A notice was published in the Federal Register pursuant to Section 6(b) of the Act on December 12, 2003 (68 FR 69422).

Patricia A. Brink,
Deputy Director of Operations, Antitrust Division.

[FR Doc. 07-5561 Filed 11-6-07; 8:45 am]

BILLING CODE 4410-11-M